DEPARTMENT OF TRANSPORTATION

Federal Highway Administration

[Docket No. FHWA-2017-0043]

Motorcyclist Advisory Council to the Federal Highway Administration

AGENCY: Federal Highway Administration (FHWA), U.S. Department of Transportation (DOT).

ACTION: Notice of public meeting.

SUMMARY: This notice announces the third meeting of the Motorcyclist Advisory Council (MAC) to the FHWA. The purpose of this meeting is to advise the Secretary of Transportation, through the Administrator of the FHWA, on infrastructure issues of concern to motorcyclists, including barrier design, road design, construction, and maintenance practices, and the architecture and implementation of intelligent transportation system technologies, pursuant to Section 1426 of the Fixing America's Surface Transportation (FAST) Act.

DATES: The MAC will meet on December 12, 2018, from 8:00 a.m. to 4:30 p.m. EST.

ADDRESSES: The meeting will be held at National Highway Institute, 1310 North Courthouse Road, Suite 300, Arlington, VA 22201.

FOR FURTHER INFORMATION CONTACT: Mr. Michael Griffith, the Designated Federal Official, Office of Safety, 202-366-2829, (mike.griffith@dot.gov), or Ms. Guan Xu, 202-366-5892, (guan.xu@dot.gov), Federal Highway Administration, 1200 New Jersey Avenue SE, Washington, DC 20590.

SUPPLEMENTARY INFORMATION:

Electronic Access

An electronic copy of this notice may be downloaded from the Federal Register's home page at: http://www.archives.gov; the Government Publishing Office's database at: https://www.gpo.gov/fdsys/; or the specific docket page at: www.regulations.gov.

Background

Purpose of the Committee: Section 1426 of the FAST Act, Public Law 114-94 required the FHWA Administrator, on behalf of the Secretary, to establish a MAC. The MAC is responsible for providing advice and making recommendations concerning infrastructure issues related to motorcyclist safety including barrier design; road design, construction, and maintenance practices; and the architecture and implementation of intelligent transportation system technologies. On July 28, 2017, the Secretary of Transportation appointed 10 members to the MAC.

Tentative Agenda: The agenda will include a topical discussion of the infrastructure issues described above, namely: Barrier design; road design, construction, and maintenance practices; and the architecture and implementation of intelligent transportation system technologies.

Public Participation: This meeting will be open to the public. Members of the public who wish to attend in person are asked to send an email to MAC-FHWA@dot.gov no later than December 1, 2018, in order to facilitate entry and guarantee seating. The Designated Federal Official and the Chair of the Committee will conduct the meeting to facilitate the orderly conduct of business. If you would like to file a written statement with the Committee, you may do so either before or after the meeting by submitting an electronic copy of that statement to MAC-FHWA@dot.gov or the specific docket page at: www.regulations.gov. If you would like to make oral statements regarding any of the items on the agenda, you should contact Mr. Michael Griffith at the phone number listed above or email your request to MAC-FHWA@dot.gov. You must make your request for an oral statement at least 5 business days prior to the meeting. Reasonable provisions will be made to include any such presentation on the agenda. Public comment will be limited to 3 minutes per speaker, per topic.

Services for Individuals with Disabilities: The public meeting will be physically accessible to people with disabilities. Individuals requiring accommodations, such as sign language interpretation or other ancillary aids, are asked to note this when they send an email about attending to MAC-FHWA@dot.gov by December 1, 2018.

Minutes: An electronic copy of the minutes from all meetings will be available for download within 60 days of the conclusion of the meeting at: https://safety.fhwa.dot.gov/motorcycles/.

Authority: Section 1426 of Pub. L. 114-94.

Issued on: November 20, 2018.
Brandye L. Hendrickson,
Deputy Administrator, Federal Highway Administration.

[FR Doc. 2018-25876 Filed 11-26-18; 8:45 am]

BILLING CODE 4910-22-P